DEPARTMENT OF LABOR

Employment and Training Administration

[TA-W-55,607; TA-W-55,607A]

Creo Americas, Inc., U.S. Headquarters; A Subsidiary of Creo, Inc., Billerica, MA; Including an Employee of Creo Americas, Inc., U.S. Headquarters; A Subsidiary of Creo, Inc., Billerica, MA, Located in New York, NY; Amended Notice of Revised Determination on Remand

In accordance with Section 223 of the Trade Act of 1974 (19 U.S.C. 2273) the Department of Labor issued a Revised Determination on Remand on April 5, 2005, applicable to workers of Creo Americas, Inc., U.S. Headquarters, a subsidiary of Creo, Inc., Billerica, Massachusetts. The notice was published in the Federal Register on April 25, 2005 (70 FR 21247).

At the request of the State agency, the Department reviewed the certification for workers of the subject firm. New information shows that a worker separation occurred involving an employee of the Billerica, Massachusetts facility of Creo Americas, Inc., U.S. Headquarters, a subsidiary of Creo, Inc., located in New York, New York. Mr. Amnon Zerahia provided technical support for the production of professional imaging and software production at the West Virginia and Washington states facilities of the subject firm.

Based on these findings, the Department is amending this certification to include an employee of the Billerica, Massachusetts facility of Creo Americas, Inc., U.S. Headquarters, a subsidiary if Creo, Inc. located in New York, New York.

The intent of the Department's certification is to include all workers of Creo Americas, Inc., U.S. Headquarters, a subsidiary of Creo, Inc., Billerica, Massachusetts Atlas Textile Company, Inc., Commerce, California who were adversely affected by a shift in production to Canada.

The amended notice applicable to TA-W-55,607 is hereby issued as follows:

All workers of Creo Americas, Inc., U.S. Headquarters, a subsidiary of Creo, Inc., Billerica, Massachusetts (TA-W-55,607), including an employee of Creo Americas, Inc., U.S. Headquarters, a subsidiary of Creo, Inc., Billerica, Massachusetts, located in New York, New York (TA-W-55,607A), who became totally or partially separated from employment on or after September 7, 2003, through April 5, 2007, are eligible to apply for adjustment assistance under Section 223 of the Trade Act of 1974.

Signed at Washington, DC this 27th day of May 2005.
Elliott S. Kushner,
Certifying Officer, Division of Trade Adjustment Assistance.

[FR Doc. E5-3023 Filed 6-10-05; 8:45 am]

BILLING CODE 4510-30-P